NATIONAL COUNCIL ON DISABILITY

Sunshine Act Meetings

TIME AND DATES: The Members of the National Council on Disability (NCD) will hold a quarterly meeting on Tuesday, May 6, 2014, 1:30 p.m.—5:00 p.m. (Pacific Daylight Time).

PLACE: The meeting will occur in Berkeley, California at the Ed Roberts Campus, a universally designed, transit-oriented campus located at the Ashby BART Station. The address for the Ed Roberts campus is 3075 Adeline St, Berkeley, CA 94703. Interested parties may join the meeting in person or may join the phone line in a listening-only capacity (other than the period allotted for by-phone public comment) using the following call-in number: 877-419-6591; Conference ID: 5113111; Conference Title: NCD Meeting; Host Name: Jeff Rosen.

MATTERS TO BE CONSIDERED: The Council will receive reports from federal partners, its standing committees, and updates on policy projects underway or soon to be underway. The meeting will conclude with a period of public comment.

AGENDA: The times provided below are approximations for when each agenda item is anticipated to be discussed (all times PDT):

1:30 p.m.—Call to Order, Welcome, Introduction of New Council Members

1:45-2:15 p.m.—Federal Disability Programs and Initiatives Update, Q&A

2:15-2:30 p.m.—Executive Director's Report

2:30-3:30 p.m.—Standing Committee Reports

• Policy Development and Program Evaluation Committee

○ Medicaid Managed Care Forums Report-out

○ Affordable Care Act Project Update

• Audit & Finance Committee

• Governance Committee

3:30-3:45 p.m.—Break

3:45-4:45 New and Old Business

• Presentation by Disability Rights Education and Defense Fund (DREDF) on NCD draft transportation report “Where We've Gone and What We've Learned” and the autonomous vehicles report in progress

• Progress Report report-out

4:45-5:00 p.m. Public Comment

5:00 p.m.-Meeting Adjourned

PUBLIC COMMENT: To better facilitate NCD's public comment periods, any individual interested in providing public comment will be asked to register their intent to provide comment in advance by sending an email to PublicComment@ncd.gov with the subject line “Registration” with your name, organization, state, and topic of comment included in the body of your email. Full-length written public comments may also be sent to that email address. All emails to register for public comment at the May 6 quarterly meeting must be received by Friday, May 2, 2013. Priority will be given to those individuals who are in-person to provide their comments. Those commenters on the phone will be called on according to the list of those registered via email. Due to time constraints, NCD asks all commenters to limit their comments to three minutes.

CONTACT PERSON FOR MORE INFORMATION: Anne Sommers, NCD, 1331 F Street NW., Suite 850, Washington, DC 20004; 202-272-2004 (V), 202-272-2074 (TTY).

ACCOMMODATIONS: A CART streamtext link has been arranged for this meeting. The web link to access CART is: www.streamtext.net/text.aspx?event=NCD. Those who plan to attend the meeting in-person and require accommodations should notify NCD as soon as possible to allow time to make arrangements. Please note: To help reduce exposure to fragrances for those with multiple chemical sensitivities, NCD requests that all those attending the meeting in person please refrain from wearing scented personal care products such as perfumes, hairsprays, colognes, and deodorants.

Dated: April 11, 2014.
Rebecca Cokley,
Executive Director.

[FR Doc. 2014-08697 Filed 4-11-14; 4:15 pm]

BILLING CODE 6820-MA-P